DEPARTMENT OF COMMERCE

National Oceanic and Atmospheric Administration

RIN 0648-XF063

Marine Mammals; File No. 20455

AGENCY: National Marine Fisheries Service (NMFS), National Oceanic and Atmospheric Administration (NOAA), Commerce.

ACTION: Notice; receipt of application.

SUMMARY: Notice is hereby given that Randall Wells, Ph.D., Chicago Zoological Society's Sarasota Dolphin Research Program, c/o Mote Marine Laboratory, 1600 Ken Thompson Parkway, Sarasota, FL 34236 has applied in due form for a permit to conduct research on bottlenose dolphins (Tursiops truncatus) and Atlantic spotted dolphins (Stenella frontalis) for scientific research.

DATES: Written, telefaxed, or email comments must be received on or before January 17, 2017.

ADDRESSES: The application and related documents are available for review by selecting “Records Open for Public Comment” from the “Features” box on the Applications and Permits for Protected Species (APPS) home page, https://apps.nmfs.noaa.gov, and then selecting File No. 20455 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Shasta McClenahan or Amy Hapeman, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant requests a five-year permit to take bottlenose and spotted dolphins for scientific research to continue a long-term program to evaluate the health, environmental contamination, reproduction, population structure and dynamics, acoustics, trophic patterns, life history, social structure, and anthropogenic effects on dolphins off the west coast of Florida including bays, estuaries, and offshore waters. Up to 3,000 bottlenose and 1,000 spotted dolphins would be approached annually during vessel surveys for photography, photo-identification, video recording, behavioral observation, acoustic playbacks, and passive acoustic recording, with concurrent deployment of an unmanned aircraft system for photogrammetry. Up to 250 bottlenose and 100 spotted dolphins of the above animals may also be biopsy sampled during vessel surveys annually. Up to 50 bottlenose and 25 spotted dolphins annually of the above animals may be captured for health assessments which would include biological sampling, auditory brainstem response tests, metabolic rate studies, ultrasound, x-rays, marking, tagging, tracking, and release. Calves less than 8 months of age and females with these calves would not be captured or remotely biopsy sampled. Up to 25 adults or juveniles of each species annually would be remotely satellite tagged to test the feasibility of a new experimental dorsal fin attachment method. Two unintentional mortalities of each species could occur due to capture over the life of the permit. The following species could be incidentally harassed during surveys: Green sea turtle (Chelonia mydas), hawksbill sea turtle (Eretmochelys imbricata), Kemp's ridley sea turtle (Lepidochelys kempii), loggerhead sea turtle (Caretta caretta), olive ridley sea turtle (L. olivacea), leatherback sea turtle (Dermochelys coriacea), smalltooth sawfish (Pristis pectinata), and gulf sturgeon (Acipenser oxyrinchus desotoi).

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: December 9, 2016.
Julia Harrison,
Chief, Permits and Conservation Division, Office of Protected Resources, National Marine Fisheries Service.

[FR Doc. 2016-30083 Filed 12-14-16; 8:45 am]

BILLING CODE 3510-22-P